DEPARTMENT OF THE INTERIOR

Fish and Wildlife Service

Preparation of an Environmental Impact Statement for Issuance of Incidental Take Permits Associated With a Habitat Conservation Plan for East Contra Costa County, CA

AGENCY: Fish and Wildlife Service, Interior.

ACTION: Notice of intent.

SUMMARY: Pursuant to the National Environmental Policy Act (NEPA) of 1969, as amended, we, the U.S. Fish and Wildlife Service (Service) are advising the public that we intend to gather information necessary to prepare, in coordination with the East Contra Costa County Habitat Conservation Plan Association (Association), a joint Environmental Impact Statement/Environmental Impact Report (EIS/EIR) on the East Contra Costa County Habitat Conservation Plan (Plan), which is being prepared in conjunction with a Natural Community Conservation Plan. The Plan is being prepared under Section 10 (a)(1)(B) of the Federal Endangered Species Act of 1973, as amended, (ESA); whereas the Natural Community Conservation Plan is being prepared under the State of California's Natural Community Conservation Planning Act. The Association intends to request an ESA permit for 7 species federally listed as threatened or endangered and 18 unlisted species that may become listed during the term of the permit. The permit is needed to authorize take of listed species that could occur as a result of activities implemented under the Plan.

We provide this notice to obtain suggestions and information from other agencies and the public on the scope of issues and alternatives to be addressed in the EIS/EIR. We invite written comments from interested parties to ensure that the full range of issues related to the permit request are identified.

DATES: Written comments should be received on or before August 4, 2003. Public meetings will be held on: July 17, 2003, 3:30 p.m. to 5:30 p.m, and 7 p.m. to 8:30 p.m., Pittsburg, CA.

ADDRESSES: The public meetings will be held at: Pittsburg City Hall, 65 Civic Drive, Pittsburg, CA, 94565. Information, written comments, or questions related to the preparation of the EIS/EIR and the NEPA process should be submitted to Sheila Larsen, Conservation Planning, U.S. Fish and Wildlife Service, Sacramento Fish and Wildlife Office, 2800 Cottage Way, W-2605, Sacramento, California 95825; FAX (916) 414-6713.

FOR FURTHER INFORMATION CONTACT: Sheila Larsen, Fish and Wildlife Biologist, at the Sacramento Fish and Wildlife Office at (916) 414-6600.

SUPPLEMENTARY INFORMATION:

Reasonable Accommodation

Persons needing reasonable accommodations in order to attend and participate in the public meeting should contact Sheila Larsen as soon as possible. In order to allow sufficient time to process requests, please call no later than one week before the public meeting. Information regarding this proposed action is available in alternative formats upon request.

Background

Section 9 of the ESA and its implementing Federal regulations prohibit the “take” of a species listed as endangered or threatened. Take is defined under the ESA as harass, harm, pursue, hunt, shoot, wound, kill, trap, capture or collect listed animal species, or attempt to engage in such conduct (16 U.S.C. 1538). However, under section 10(a)(1)(B) of the ESA, we may issue permits to authorize “incidental take” of listed species. “Incidental take” is defined by the ESA as take that is incidental to, and not the purpose of, carrying out an otherwise lawful activity. Regulations governing permits for threatened and endangered species are found in the Code of Federal Regulations at 50 CFR 17.32 and 50 CFR 17.22.

We anticipate that the Association will request an ESA incidental take permit. The Association is a Joint Powers Authority consisting of seven member agencies: Contra Costa County; cities of Brentwood, Clayton, Oakley, and Pittsburg; Contra Costa Water District; and East Bay Regional Park District.

Currently, 26 species are proposed for coverage under the Plan. These include the federally listed endangered San Joaquin kit fox (Vulpes macrotus mutica), longhorn fairy shrimp (Branchinecta longiantenna), vernal pool tadpole shrimp (Lepidurus packardi), the threatened Alameda whipsnake (Masticophis lateralis euryxanthus), giant garter snake (Thamnophis gigas), California red-legged frog (Rana aurora draytonii), vernal pool fairy shrimp (Branchinecta lynchi), and the proposed California tiger salamander (Ambystoma californiense), and their habitats. The 18 unlisted species proposed to be covered under the Plan include the Townsend's western big-eared bat (Corynorhinus townsendii townsendii), tricolored blackbird (Agelaius tricolor), golden eagle (Aquila chrysaetos), western burrowing owl (Athene cunicularia hypugea), Swainson's hawk (Buteo swainsoni), silvery legless lizard (Anniella pulchra pulchra), foothill yellow-legged frog (Rana boylii), midvalley fairy shrimp (Branchinecta mesovalliensis), Mount Diablo manzanita (Arctostaphylos auriculata), brittlescale (Atriplex depressa), San Joaquin spearscale (Atriplex joaquiniana), big tarplant (Blepharizonia plumosa), Mount Diablo fairy lantern (Calochortus pulchellus), recurved larkspur (Delphinium recurvatum), Diablo helianthella (Helianthella castanea), Brewer's dwarf flax (Hesperolinin breweri), showy madia (Madia radiata), and adobe navarretia (Navarretia nigelliformis spp. nigelliformis). Species may be added or deleted during the course of Plan development based on further analysis, new information, agency consultation, and public comment.

The Plan area consists of approximately 170,000 acres in East Contra Costa County, California, including watersheds that drain the eastern flanks of Mount Diablo. The boundaries of the Plan area are generally defined by the Alameda-Contra Costa county line, the San Joaquin-Contra Costa county line, the Sacramento-Contra Costa county line, the Solano-Contra Costa county line, and the eastern flanks of Mount Diablo and adjacent foothills in the Diablo Range. Excluded areas include current and historic tidal areas, the City of Antioch, the community of Discovery Bay, and the Clifton Court Forebay.

Implementation activities that may be covered under the Plan include urban development and associated infrastructure, and County and/or city projects related to road maintenance/construction, water delivery infrastructure, flood control, sanitary systems, and recreational opportunities. Under the Plan, the effects of covered activities are expected to be minimized and mitigated through participation in a conservation program, which will be fully described in the Plan. The focus of a conservation program is to provide long-term protection of covered species by protecting biological communities in the Plan area. The Plan is also a Natural Community Conservation Plan, therefore it will provide protection at an ecosystem level while accommodating compatible land use and economic growth.

Components of a conservation program are now under consideration by the Service and Association. These components will likely include: Avoidance and minimization measures, monitoring, adaptive management, research, and mitigation measures consisting of preservation, restoration and enhancement of habitat.

Environmental Impact Statement/Report

The Association and the Service have selected Jones & Stokes to prepare the Draft EIS/EIR. The joint document will be prepared in compliance with NEPA and the California Environmental Quality Act (CEQA). Although Jones & Stokes will prepare the EIS/EIR, the Service will be responsible for the scope and content of the document for NEPA purposes, and the County will be responsible for the scope and content of the document for CEQA purposes.

The EIS/EIR will consider the proposed action, the issuance of an incidental take permit, no action (no permit), and a reasonable range of alternatives. A detailed description of the proposed action and alternatives will be included in the EIS/EIR. We anticipate that several alternatives will be developed, which may vary by the level of conservation, impacts caused by the proposed activities, permit area, covered species, or a combination of these factors.

The EIS/EIR will also identify potentially significant impacts on biological resources, land use, air quality, water quality, mineral resources, water resources, economics, and other environmental resource issues that could occur directly or indirectly with implementation of the proposed action and alternatives. For all potentially significant impacts, the EIS/EIR will identify mitigation measures where feasible to reduce these impacts to a level below significance.

Environmental review of the EIS/EIR will be conducted in accordance with the requirements of NEPA (42 U.S.C. 4321 et seq.), its implementing regulations (40 CFR parts 1500-1508), other applicable regulations, and Service procedures for compliance with those regulations. We are publishing this notice in accordance with Section 1501.7 of NEPA to obtain suggestions and information from other agencies and the public on the scope of issues and alternatives to be addressed in the EIS/EIR. More specifically, we provide this notice: (1) To describe the proposed action and possible alternatives; (2) to advise other Federal and State agencies, affected Tribes, and the public of our intent to prepare an EIS/EIR; (3) to announce the initiation of a public scoping period; and (4) to obtain suggestions and information on the scope of issues to be included in the EIS/EIR. The primary purpose of the scoping process is to identify, rather than to debate, significant issues related to the proposed action. We invite written comments from interested parties to ensure that the full range of issues related to the permit request are identified. All comments received, including names and addresses, will become part of the official administrative record and may be made available to the public.

Dated: May 23, 2003.
D. Kenneth McDermond,
Deputy Manager, Region 1, California/Nevada Operations Office, Sacramento, California.

[FR Doc. 03-14109 Filed 6-4-03; 8:45 am]

BILLING CODE 4310-55-P